DEPARTMENT OF AGRICULTURE

Willamette Provincial Advisory Committee (PAC); Meeting

AGENCY: Forest Service, USDA.

ACTION: Meeting.

SUMMARY: The Willamette Province Advisory Committee (PAC) will meet on Thursday, February 21, 2002. The meeting is scheduled to begin at 9 a.m., and will conclude at approximately 2:30 p.m. The meeting will be held at the Red Lion Inn, 3301 Market Street NE., Salem, Oregon (503) 370-7888.

The tentative agenda includes: (1) Progress report on the annual Survey and Manage species review process, (2) Presentation on land stewardship agreements between the Grand Ronde Tribe and federal agencies, (3) Overview of 2002 program of work for Forest Service and BLM units in the Province, (4) Subcommittee Reports, (5) Public Forum. The Public Forum is tentatively scheduled to being at 10:30 a.m. Time allotted for individual presentations will be limited to 3-4 minutes. Written comments are encouraged, particularly if the material cannot be presented within the time limits for the Public Forum. Written comments may be submitted prior to the February 21 meeting by sending them to Designated Federal Official Neal Forrester at the address given below.

FOR FURTHER INFORMATION CONTACT: Designated Federal Official Neal Forrester; Willamette National Forest; 211 East Seventh Avenue; Eugene, Oregon 97401; (541) 465-6924.

Dated: February 4, 2002.
Y. Robert Iwamoto,
Acting Forest Supervisor.

[FR Doc. 02-3072 Filed 2-7-02; 8:45 am]

BILLING CODE 3410-11-M